DEPARTMENT OF HOMELAND SECURITY

Federal Emergency Management Agency

[Docket ID FEMA-2007-0008]

National Advisory Council; Meeting

AGENCY: Federal Emergency Management Agency, DHS.

ACTION: Committee management; notice of open Federal advisory committee meeting.

SUMMARY: The Federal Emergency Management Agency (FEMA) National Advisory Council (NAC) will meet remotely via teleconference and web conference on October 2, 2019. The meeting will be open to the public.

DATES: The NAC will meet Wednesday, October 2, 2019, from 2:00 p.m. to 4:00 p.m. Eastern Time (ET). Please note that the meeting may close early if the NAC has completed its business.

ADDRESSES: The meeting will be held via teleconference and web conference. It is recommended that attendees register with FEMA by September 20, 2019, by providing their name, telephone number, email address, title, and organization to the person listed in the FOR FURTHER INFORMATION CONTACT below.

Reasonable accommodations are available for people with disabilities and others with access and functional needs. To request a reasonable accommodation at the meeting, contact the person listed in the FOR FURTHER INFORMATION CONTACT section below as soon as possible.

To facilitate public participation, members of the public are invited to provide written comments on the issues to be considered by the NAC. The “Agenda” section below outlines these issues. The full agenda and any related documents for this meeting will be posted by Monday, September 30, 2019, on the NAC website at https://www.fema.gov/national-advisory-council. Written comments must be submitted and received by 5:00 p.m. ET on September 30, 2019, identified by Docket ID FEMA-2007-0008, and submitted by one of the following methods:

• Federal eRulemaking Portal: http://www.regulations.gov. Follow the instructions for submitting comments.

• Fax: (540) 504-2331. Please include a cover sheet addressing the fax to ATTN: Jasper Cooke.

• Mail: Regulatory Affairs Division, Office of Chief Counsel, FEMA, 500 C Street SW, Room 8NE, Washington, DC 20472-3100.

Instructions: All submissions must include the words “Federal Emergency Management Agency” and the docket number for this action. Comments received, including any personal information provided, will be posted without alteration at http://www.regulations.gov.

Docket: For access to the docket to read comments received by the NAC, go to http://www.regulations.gov, and search for Docket ID FEMA-2007-0008.

A public comment period will be held at the NAC meeting on Wednesday, October 2, 2019, from 2:00 p.m. to 2:10 p.m. ET. All speakers must limit their comments to three minutes. Comments should be addressed to the NAC. Any comments not related to the agenda topics will not be considered by the NAC. To register to make remarks during the public comment period, contact the individual listed in the FOR FURTHER INFORMATION CONTACT section below by September 30, 2019. Please note that the public comment period may end before the time indicated, following the last call for comments.

FOR FURTHER INFORMATION CONTACT: Jasper Cooke, Designated Federal Officer, Office of the National Advisory Council, Federal Emergency Management Agency, 500 C Street SW, Washington, DC 20472-3184, telephone (202) 646-2700, Fax (540) 504-2331, and email FEMA-NAC@fema.dhs.gov. The NAC website is www.fema.gov/national-advisory-council.

SUPPLEMENTARY INFORMATION: Notice of this meeting is given under the Federal Advisory Committee Act, 5 U.S.C. Appendix.

The NAC advises the FEMA Administrator on all aspects of emergency management. The NAC incorporates input from state, local, tribal and territorial governments, non-governmental organizations and the private sector, in the development and revision of FEMA plans and strategies. The NAC includes a cross-section of officials, emergency managers, and emergency response providers from state, local, and tribal governments, the private sector, and nongovernmental organizations.

Agenda: The purpose of this meeting is to provide the full NAC an opportunity to discuss recommendations developed by each of its subcommittees. The Agenda therefore will afford each subcommittee roughly 30 minutes to present their recommendations and then receive feedback from the full NAC. The subcommittees will present in this order: Federal Insurance and Mitigation; Response and Recovery; Marginalized, Tribal, Rural, and Small Communities; and Preparedness and Protection. The full agenda and any related documents for this meeting will be posted by Friday, September 27, 2019, on the NAC website at http://www.fema.gov/national-advisory-council.

Dated: September 12, 2019.
Pete Gaynor,
Acting Administrator, Federal Emergency Management Agency.

[FR Doc. 2019-20349 Filed 9-19-19; 8:45 am]

BILLING CODE 9111-48-P